FEDERAL COMMUNICATIONS COMMISSION

47 CFR Part 73

[MB Docket No. 21-152; RM-11899; DA 21-424; FR ID 21669]

Television Broadcasting Services; Freeport, Illinois

AGENCY: Federal Communications Commission.

ACTION: Proposed rule.

SUMMARY: The Commission has before it a petition for rulemaking filed by Gray Television Licensee, LLC (Petitioner), requesting the allotment of channel 9 at Freeport, Illinois. The current version of the DTV Table, which reflects the pre-incentive auction allotments, allocates DTV Channel 41 to Freeport, Illinois, but the licensee submitted a winning bid to go off air in the broadcast television incentive auction and subsequently suspended operations. Thus, Petitioner is requesting the allotment of channel 9 at Freeport as that community's first local service in the DTV Table of Allotments, which will be amended later to reflect all the incentive auction channel assignments.

DATES: Comments must be filed on or before May 24, 2021 and reply comments on or before June 7, 2021.

ADDRESSES: Federal Communications Commission, Office of the Secretary, 45 L Street NE, Washington, DC 20554. In addition to filing comments with the FCC, interested parties should serve counsel for the Petitioner as follows: Ari Meltzer, Esq., Wiley Rein LLP, 1776 K Street NW, Washington, DC 20006.

FOR FURTHER INFORMATION CONTACT: Joyce Bernstein, Media Bureau, at (202) 418-1647; or Joyce Bernstein, Media Bureau, at Joyce.Bernstein@fcc.gov.

SUPPLEMENTARY INFORMATION: In support of its channel allotment request, the Petitioner states that Freeport is a community deserving of a new television broadcast service. Freeport (pop. 25,638/2010 Census) is the county seat and largest city in Stephenson County and has a Mayor; City Manager; a seven-member City Council; police, public works, and utility departments; and numerous businesses and places of worship and numerous businesses and places of worship. The Commission concludes the request to amend the Post-Transition Table of DTV Allotments warrants consideration. The Petitioner's proposal would result in a first local service to Freeport consistent with the Commission's television allotment policies. Channel 9 can be allotted to Freeport, Illinois, consistent with the minimum geographic spacing requirements for new DTV allotments in section 73.623(d) of the Commission's rules, at 42°16′50″ N and 88°52′58″ W. In addition, the allotment point complies with section 73.625(a)(1) of the rules as the entire community of Freeport is encompassed by the 43 dBμ contour.

This is a synopsis of the Commission's Notice of Proposed Rulemaking, MB Docket No. 21-152; RM-11899; DA 21-424, adopted April 14, 2021, and released April 14, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—Radio Broadcast Service

1. The authority citation for part 73 continues to read as follows:

Authority: 47 U.S.C. 154, 155, 301, 303, 307, 309, 310, 334, 336, 339.

§ 73.622 [Amended]

2. In § 73.622 paragraph (i), amend the Post-Transition Table of DTV Allotments under Illinois by revising the entry for Freeport to read as follows:

§ 73.622 Digital television table of allotments.

* * * * *

(i) * * *

Community | Channel No.
| * * * * *
Illinois
| * * * * *
Freeport | 9, 41
| * * * * *

[FR Doc. 2021-08290 Filed 4-21-21; 8:45 am]

BILLING CODE 6712-01-P